DEPARTMENT OF HOMELAND SECURITY

Federal Emergency Management Agency

[Docket ID: FEMA-2011-0007]

Agency Information Collection Activities: Proposed Collection; Comment Request, 1660-0104; Severe Repetitive Loss (SRL) Appeals

AGENCY: Federal Emergency Management Agency, DHS.

ACTION: Notice; 60-day notice and request for comments; extension, without change, of a currently approved information collection; OMB No. 1660-0104; FEMA Form—None.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning the Severe Repetitive Loss (SRL) Program appeals process.

DATES: Comments must be submitted on or before May 13, 2011.

ADDRESSES: To avoid duplicate submissions to the docket, please use only one of the following means to submit comments:

(1) Online. Submit comments at http://www.regulations.gov under Docket ID FEMA-2011-0007. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0007 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Cecelia Rosenberg, Grants Policy Branch Chief, FEMA, Mitigation Directorate, (202) 646-3321 for additional information. You may contact the Records Management Division for copies of the proposed collection of information at facsimile number (202) 646-3347 or e-mail address: FEMA-Information-Collections-Management@dhs.gov.

SUPPLEMENTARY INFORMATION: FEMA's regulations implementing the SRL program appeals process, authorized by the Flood Insurance Act of 1968 (42 U.S.C. 4102a) are located at 44 CFR 79.7(d). This information collection outlines the process by which any owner of a severe repetitive loss of property may appeal a FEMA decision that would increase the chargeable insurance premium rate on the property. This process requires the owner to submit a written appeal, including any supporting documentation, to FEMA within 90 days of the notice of the insurance increase. Much of the supporting documentation for SRL applications is covered under a separate collection, OMB No. 1660-0072, Mitigation Grant Programs (e-Grants). Although much of the supporting documentation has already been submitted in the original application for SRL grant funds, the property owner may submit any additional documentation that supports their appeal. Without this required information, FEMA will be unable to implement the appeals process for the SRL program, and will be in violation of the requirements under the Flood Insurance Act of 1968, 42 U.S.C. 4102a.

Collection of Information

Title: Severe Repetitive Loss (SRL) Appeals.

Type of Information Collection: Extension, without change, of a currently approved information collection.

OMB Number: 1660-0104.

Form Titles and Numbers: None.

Abstract: The SRL program provides property owners with the ability to appeal an increase in their flood insurance premium rate if they refuse an offer of mitigation under this program. The property owner must submit information to FEMA to support their appeal.

Affected Public: Individuals or Households.

Estimated Total Annual Burden Hours: 100 hours.

Estimated Annualized Burden Hours and Costs
Type of respondent | Form name/Form number | Number of respondents | Number of responses per respondent | Total No. of responses | Avg. burden per response (in hours) | Total annual burden (in hours) | Avg. hourly wage rate | Total annual respondent cost
Individuals or Households | Appeals Written Request and Supporting Documentation/No. Form | 10 | 1 | 10 | 10 | 100 | $23.94 | $2,394
Total |  | 10 |  | 10 |  | 100 |  | 2,394

Estimated Cost: The estimated annual operations and maintenance costs for SRL appeals is $30,488. There is no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 8, 2011.
Lesia M. Banks,
Director, Records Management Division, Mission Support Bureau, Federal Emergency Management Agency, Department of Homeland Security.

[FR Doc. 2011-5825 Filed 3-11-11; 8:45 am]

BILLING CODE 9110-13-P